DEPARTMENT OF DEFENSE

Department of the Army

Performance Review Board Membership

AGENCY: Department of the Army, DoD.

ACTION: Notice.

SUMMARY: Notice is given of the names of members of a Performance Review Board for the Department of the Army.

DATES: Effective Date: September 30, 2005.

FOR FURTHER INFORMATION CONTACT: Lucrecia Murdock, Human Resource Management Directorate, 2511 Jefferson Davis Highway, Arlington, VA 22202-3926.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The members of the Performance Review Board for the Headquarters (HQ), U.S. Army Materiel Command (AMC) are:

1. Mr. Richard G. Alpaugh, Deputy to the Commanding General, U.S. Army Security Assistance Command.

2. Dr. Richard W. Amos, Deputy to the Commander, U.S. Army Aviation and Missile Command.

3. BG Clinton Anderson, Commanding General, U.S. Army Security Assistance Command.

4. Ms. Sue L. Baker, Principal Deputy G-3 for Operations, Headquarters, U.S. Army materiel Command.

5. Dr. Grace M. Bochenek, Vice President of Research, U.S. Army Tank Automotive Research.

6. Dr. James C. Bradas, Associate Director for Missile Technology, Aviation and Missile Research, Development and Engineering Center.

7. Dr. Robin B. Buckelew, Director for Missile Guidance, Aviation and Missile Research, Development and Engineering Center.

8. Ms. Jucretia M. Cruze, Executive Director, Acquisition Center, U.S. Army Aviation and Missile Life Cycle Management Command.

9. Mr. John P. Dugan, Deputy to the Commander, U.S. Army Tank-Automotive and Armaments Life Cycle Management Command.

10. Mr. Victor J. Ferlise, Deputy to the Commander, Communications-Electronics Command (CECOM).

11. MG Jerome Johnson, Commanding General, U.S. Army Field Support Command.

12. Mr. Gregory L. Kee, Deputy G-3 for Future Operations, Headquarters, U.S. Army Materiel Command.

13. Dr. Robin L. Keesee, Deputy to the Commander, U.S. Army Research Development and Engineering Command.

14. Mr. Anthony A. LaPlaca, Director for Command, Control, Communications and Computers/Intelligence (C4I) Logistics and Readiness Center.

15. MG William M. Lenaers, Commanding General, U.S. Army Tank-Automotive Command.

16. MG Michael R. Mazzucchi, Commanding General, U.S. Army Communications-Electronics Life Cycle Management Command.

17. Mr. Daniel G. Mehney, Director, Acquisition Center, U.S. Army Tank-Automotive and Armaments Life Cycle Command.

18. Dr. Gerardo J. Melendez, Director, Command Control and Systems Integration Directorate, U.S. Army Communications Electronics Command, Research, Development and Engineering Center.

19. MG Roger A. Nadeau, Commanding General, U.S. Army Research Development and Engineering Command.

20. Mr. Michael A. Parker, Director, U.S. Army Chemical Materials Agency.

21. MG Harry J. Philips, Assistant to the Deputy Commanding General, USAR, U.S. Army Materiel Command.

22. MG James H. Pillsbury, Commanding General, U.S. Army Aviation and Missile Life Cycle Management Command.

23. Mr. Anthony B. Sconyers, Chief Counsel, U.S. Army Field Support Command.

24. Ms. Jill House-Smith, Director, Weapons and Materials Research Directorate, U.S. Army Research Laboratory.

25. MG Perry Smith, Assistant to the DCG, USAR, U.S. Army Materiel Command.

26. Ms. Kathryn T.H. Szymanski, Command Counsel, Headquarters, U.S. Army Materiel Command.

27. Mr. Edward C. Thomas, Director, Software Engineering Center, U.S. Army Communications-Electronics Life Cycle Management Command.

The members of the Performance Review Board for the Consolidated Commands, are:

1. BG James O. Barclay, III, Assistant Division Commander (Maneuver), 1st Infantry Division, U.S. Army Europe.

2. Mr. Michael F. Bauman, Director, U.S. Army Training and Doctrine Command Analysis Center.

3. Mr. Richard D. Benjamin, Sustaining Base Operations Advisor, Headquarters, U.S. Southern Command.

4. Ms. Pamela I. Blechinger, Director of Operations, U.S. Army Training and Doctrine Command Analysis Center.

5. BG Leo A. Brooks, Jr., Vice Director of the Army Staff.

6. Mr. Laurence H. Burger, Director, Space and Missile Defense Battle Laboratory, U.S. Army Space and Missile Defense Command.

7. BG Donald M. Campbell, Jr., Chief of Staff, V Corps, U.S. Army Europe.

8. Mr. William D. Chesarek, Headquarters, U.S. Army Europe and 7th Army.

9. Mr. William J. Cooper, Special Assistant for Transportation Engineering Agency/Executive Director Transportation Engineering Agency.

10. Ms. Jeannie A. Davis, Assistant Deputy Chief of Staff for Personnel and Installation Management (Civilian Personnel), U.S. Army Europe and 7th Army.

11. BG Jerry D. De La Cruz, Jr., Commander (TPU), 3d Corps Support Commander/Commander, V Corps (Rear).

12. Mr. Thomas J. Edwards, Program Manager, U.S. Army Combined Arms Support Command.

13. MG Charles W. Fletcher, Jr., Commander, Headquarters, Military Surface Deployment and Distribution Command.

14. BG Russell L. Frutiger, Deputy Chief of Staff, G-1/Deputy Commanding General, U.S. Army Europe.

15. Mr. Troy E. Gilleland Jr., Assistant Deputy Chief of Staff, G-1, Headquarters, U.S. Army Forces Command.

16. Mr. Jess F. Granone, Director, Space and Missile Defense Technical Center, U.S. Army Space and Missile Defense Command.

17. BG Daniel A. Hahn, Deputy Commanding General, V Corps, U.S. Army Europe.

18. BG Carla G. Hawley-Bowland, Commanding General, European Regional Medical Command/Lead Agent, TRICARE Europe/Command Surgeon, U.S. Army Europe.

19. BG Mark P. Hertling, Deputy Chief of Staff, G-3, U.S. Army Europe.

20. Mr. William H. Howell, Principal Assistant for Acquisition, U.S. Army Research and Materiel Command.

21. MG Kenneth W. Hunzeker, Commanding General, 1st Infantry Division, U.S. Army Europe and 7th Army.

22. Ms. Vicky L. Jefferis, Deputy Chief of Staff for Resource Management, Headquarters, U.S. Army Forces Command.

23. Ms. Jeanne Karstens, Deputy Chief of Staff for Resource Management, Headquarters, U.S. Army, Europe and 7th Army.

24. Mr. J. Stephen Koons, Assistant Deputy Chief of Staff for Logistics, Headquarters, U.S. Army Forces Command.

25. Dr. Michael J. Lavan, Director, Advanced Technology Directorate, U.S. Army Space and Missile Defense Command.

26. Mr. Mark J. Lumer, Principal Assistant Responsible for Contracting, U.S. Army Space and Missile Defense Command.

27. Mr. Ronald G. Magee, Director of Operations, U.S. Army Training and Doctrine Command Analysis Center.

28. Mr. John C. Metzler, Jr., Director of Cemetery Operations, Arlington National Cemetery, Military District of Washington.

29. Mr. Robert L. Moore, Deputy Director, Logistics and Security Assistance, Headquarters, U.S. European Command.

30. Mr. John B. Nerger, Deputy Chief of Staff for Personnel Engineering/Environmental and Logistics, Headquarters, U.S. Training and Doctrine Command.

31. BG Larry C. Newman, Deputy Chief of Staff, G-4, U.S. Army Europe.

32. BG Peter J. Palmer, Assistant Division Commander (Support), 1st Infantry Division, U.S. Army Europe.

33. Mr. William C. Reeves, Jr., Director, Integration and Interoperability for Missile Defense/Assistant to the Deputy Commanding General for Research, Development and Acquisition, U.S. Army Space and Missile Defense Command.

34. Mr. Alan M. Resnick, Assistant Deputy Chief Chief of Staff for Combat Development, U.S. Army Training and Doctrine Command.

35. Mr. Rodney L. Robertson, Director, Sensors Dirrectorate, U.S. Army Space and Missile Defense Command.

36. MG Fred D. Robinson, Jr., Commanding General, 1st Armored Division, U.S. Army Europe and 7th Army.

37. Mr. Michael C. Schexnayder, Deputy of the Commander, Research, Development and Acquisition, U.S. Army Space and Missile Defense Command.

38. Mr. Matthew L. Scully, Jr., Assistant Deputy Chief of Staff for Resource Management, Headquarters, U.S. Army Training and Doctrine Command.

39. Mr. Robert E. Seger, Assistant Deputy Chief of Staff for Training Policy, Plans and Programs, U.S. Army Training and Doctrine Command.

40. Mr. Mark L. Swinson, Chief Scientist, U.S. Army Space and Missile Defense Command.

41. BG Phillip J. Thorpe, Deputy Commanding General, 21st Theater Support Command, U.S. Army Europe.

42. BG Michael S. Tucker, Assistant Division Commander (Support), 1st Armored Division, U.S. Army Europe.

43. MG David P. Valcourt, Special Assistant to the Commanding General, U.S. Army Europe.

44. BG Dennis L. Via, Commanding General, 5th Signal Command/Deputy Chief of Staff, G-6, U.S. Army Europe.

45. BG Scott G. West, Commanding General, 21st Theater Support Command, U.S. Army Europe.

46. Ms. Patricia Young, Deputy to the Commander, Military Surface Deployment and Distribution Command.

47. MG David T. Zabecki, Deputy Chief of Staff for Mobilization and Reserve Affairs/Commanding General, U.S. Army Southern Task for (Airborne) Rear.

The members of the Performance Review Board for the U.S. Army, Chief of Staff of the Army, are:

1. BG Charles A. Anderson, Director of Integration, Office of the Deputy Chief of Staff, G-8.

2. Mr. Brian Barr, Technical Director, U.S. Army Test and Evaluation Command.

3. Mr. Peter B. Bechtel, Deputy Director for Plans and Policy, Office of the Deputy Chief of Staff, G-3.

4. Thomas R. Berard, Technical Director and Chief Scientist, U.S. Army Test and Evaluation Command.

5. BG Leo Brooks, Jr., Vice Director of the Army Staff.

6. Dr. C. David Brown, Director for Test and Technology, U.S. Army Developmental Test Command.

7. BG Sean J. Byrne, Director, Military Personnel Management, Office of the Deputy Chief of Staff, G-1.

8. Dr. Jeffrey J. Clarke, Chief Historian, U.S. Army Center of Military History.

9. Ms. Kathryn A. Condon, Assistant Deputy Chief of Staff for Operations, G-3/5/7.

10. Mr. William F. Crain, Technical Advisor to the Deputy Chief of Staff, G-3/5/7.

11. Ms. Malinda M. Darby, Assistant G-1 for Civilian Personnel Policy, Office of the Deputy Chief of Staff, G-1.

12. MG Keith W. Dayton, Director of Strategy, Plans and Policy, Office of the Deputy Chief of Staff, G-3/5/7.

13. Ms. Diane M. Devens, Regional Director (Northeast), U.S. Army Installation Management Agency.

14. Dr. Michael Drillings, Director for Manprint Directorate, Office of the Deputy Chief of Staff, G-1.

15. MG Robert E. Durbin, Director, Army Quadrennial Defense Review, Office of the Deputy Chief of Staff, G-8.

16. Mr. Hugh M. Exton, Jr., Regional Director (Southwest), U.S. Army Installation Management Agency.

17. BG Richard P. Formica, Director of Force Management, Office of the Deputy Chief of Staff, G-3/5/7.

18. Mr. James Gunlicks, Deputy Director, Training, Office of the Deputy Chief of Staff, G-3/5/7.

19. Mr. Russell B. Hall, Regional Director (Europe), Installation Management Agency.

20. BG Jeffery W. Hammond, Director of Operations, Readiness and Mobilization, Office of the Deputy Chief of Staff, G-3/5/7.

21. Ms. Lois O. Hickey, Director of Army Personnel Transformation, U.S. Army Human Resources Command.

22. BG William M. Jacobs, Deputy Director of Force Developments, Office of the Deputy Chief of Staff, G-8.

23. Mr. Robert N. Kittel, Special Assistant to the Judge Advocate General for Regulatory Law and Intellectual Property, U.S. Army Legal Services Agency.

24. BG Harvey T. Landwermeyer, Director, Korea Region, Installation Management Agency.

25. Mr. Mark R. Lewis, Assistant Deputy Chief of Staff, G-1.

26. Ms. Maureen T. Lischke, Program Executive Officer for Information Systems and Chief Information Officer, National Guard Bureau.

27. Dr. David Markowitz, Technical Director, U.S. Army Center for Army Analysis.

28. Ms. Janet C. Menig, Deputy Assistant Chief of Staff for Installation Management.

29. BG James M. Milano, Director of Training, Office of the Deputy Chief of Staff, G-3/5/7.

30. Mr. John L. Miller, Financial Manager, Resource Management Office, U.S. Army Installation Management Agency.

31. BG James W. Nuttall, Deputy Director for Operations, Readiness and Mobilization, Office of the Deputy Chief of Staff, G-3/5/7.

32. Mr. Mark J. O'Konski, Executive Director, U.S. Army Logistics Integration Agency.

33. Mr. Harold C. Pasini, Jr., Technical Director, U.S. Army Test and Evaluation Command.

34. Mr. Dean E. Pfoltzer, Deputy Director, Program, Analysis and Evaluation, Office of the Deputy Chief of Staff, G-8.

35. Ms. Modell Plummer, Associate Director of Sustainment, Office of the Deputy Chief of Staff, G-4.

36. Mr. Jospeh H. Plunkett, Regional Director (Southeast), U.S. Army Installation Management Agency.

37. Mr. James R. Robinson, Regional Director (Northwest), U.S. Army Installation Management Agency.

38. Mr. Philip E. Sakowitz, Deputy, U.S. Army Installation Management Agency.

39. Dr. Michelle R. Sams, Technical Director, Army Research Institute, U.S. Army Human Resources Command.

40. Mr. Brian M. Simmons, Deputy to the Commander and Technical Director, U.S. Army Developmental Test Command.

41. Dr. Zita M. Simutis, Director and Chief Psychologist, Army Research Institute, U.S. Army Human Resources Command.

42. Mr. Stanley E. Sokolowski, Regional Director (Pacific), U.S. Army Installation Management Agency.

43. MG Stephen M. Speakes, Director, Force Development, Office of the Deputy Chief of Staff, G-8.

44. Mr. Lewis S. Steenrod, Director of Modernization, Office of the Deputy Chief of Staff, G-8.

45. Mr. James J. Streilein, Director, Army Evaluation Center, U.S. Army Test and Evaluation Command.

46. MG N. Ross Thompson III, Director, Program Analysis and Evaluation, Office of the Deputy Chief of Staff, G-8.

47. Mr. Davis D. Tindoll, Jr., Deputy Director, Korea Region, U.S. Army Installation Management Agency.

48. Mr. Donald C. Tison, Assistant Deputy Chief of Staff for Programs, Office of the Deputy Chief of Staff, G-8.

49. Mr. Robert J. Turzak, Director of Program Development, Office of the Deputy Chief of Staff, G-4.

50. BG Andrew B. Twomey, Deputy Director, Program Analysis and Evaluation, Office of the Deputy Chief of Staff, G-8.

51. Mr. Michael L. Vajda, Director, Civilian Human Resources Agency.

52. Mr. Edgar B. Vandiver, III, Director, U.S. Army Center for Army Analysis.

53. Ms. Toni B. Wainwright, Director of Civilian Personnel Management, Office of the Deputy Chief of Staff, G-1.

54. Mr. Roy A. Wallace, Director, Plans and Resources, Office of the Deputy Chief of Staff, G-1.

55. Mr. Kenneth N. Williamson, Chief Executive Officer, U.S. Army Reserve Command.

The members of the Performance Review Board for the Scientific and Technicals, are:

1. Dr. Arthur D. Ballato, Senior Research Scientist (Electromagnetics), U.S. Army Communications and Electronics Research, Development and Engineering Center, U.S. Army Materiel Command.

2. Dr. Walter Bryzik, Chief Scientist, U.S. Army Tank Automotive Research, U.S. Army Materiel Command.

3. Dr. Kwong Kit Choi, Senior Research Scientist for Physical Sciences, U.S. Army Research Laboratory.

4. Dr. Robert M. Engler, Senior Research Scientist (Environmental), U.S. Army Engineering Research and Development Center.

5. Dr. Henry O. Everitt, III, Senior Research Scientist (Optical Sciences), U.S. Army Research, Development and Engineering Command.

6. Dr. Richard Fong, Senior Research Scientist (Warheads Technology), U.S. Army Armament Research Development and Engineering Center.

7. Dr. Grant R. Gerhart, Senior Research Scientist (Computer Modeling & Simulation), U.S. Army Tank Automotive Research Command.

8. Dr. Claire C. Gordon, Senior Research Scientist (Biological Anthropology), Research, Development & Engineering Command.

9. Dr. Shashi P. Karna, Senior Research Scientist (NanoFunctional Materials), U.S. Army Research Laboratory.

10. Dr. Ellis L. Krinitzsky, Senior Research Scientist (Geoscience), U.S. Army Engineering Research and Development Center.

11. Dr. Tomasz R. Letowski, Senior Research Scientist (Soldier Performance), U.S. Army Research Laboratory.

12. Dr. Jester M. Loomis, Senior Research Scientist (Radio Frequency Sensors), U.S. Army Research Development and Engineering Command.

13. Dr. Joseph N. Mait, Senior Research Scientist (Electromagnetics), U.S. Army Research Laboratory.

14. Dr. James W. McCauley, Senior Research Engineer (Ceramic Materials), U.S. Army Research Laboratory.

15. Dr. Robert W. McMillan, Senior Research Scientist (Research Applications), U.S. Army Space and Missiles Defense Command.

16. Dr. Paul F. Mlakar, Senior Research Scientist (Weapons Effects/Structural Dynamics) U.S. Army Engineering Research and Development Center.

17. Dr. Nasser M. Nasrabadi, Senior Research Scientist (Sensors), U.S. Army Research Laboratory.

18. Dr. John A. Parmentola, Director for Research and Laboratory Management, Office of the Assistant Secretary of the Army (Acquisition, Logistics and Technology).

19. Dr. Arunachalam M. Rajendran, Senior Research Scientist (Applied Mechanics), U.S. Army Research Laboratory.

20. Dr. James A. Ratches, Chief Scientist Night Vision Electro-Optics, U.S. Army Communications and Electronics Research.

21. Dr. Jacques Reifman, Senior Research Scientist (Advanced Medical Technology), U.S. Army Medical Research and Medical Command.

22. Dr. Donald T. Resio, Senior Research Scientists (Coastal Sedimentation), U.S. Army Engineering Research and Development Center.

23. Dr. Paul B. Ruffin, Senior Research Physicist (Micro-Sensors and Systems), U.S. Army Research, Development and Engineering Command.

24. Dr. Jose Luis Sagripanti, Research Scientist (Biochemistry), U.S. Army Edgewood Chemical Biological Center.

25. Dr. Edward M. Schmidt, Senior Research Scientist (Ballistics Research), U.S. Army Research Laboratory.

26. Dr. Michael P. Scully, Senior Research Engineer for Rotorcraft (Aerodynamics and Preliminary Design), U.S. Army Research, Development and Engineering Command.

27. Dr. Paul H. Shen, Senior Research Scientist (Nuclear/Electronics Survivability, U.S. Army Research Laboratory.

28. Dr. Brian R. Strickland, Chief Scientist (Directed Energy Applications), U.S. Army Space and Missile Defense Command.

29. Dr. Mark B. Tischler, Senior Research Scientist (Rotorcraft Flight Dynamics and Control), U.S. Army Research, Development and Engineering Command.

30. Dr. James J. Valdes, Scientific Advisor for Biotechnology, U.S. Army Edgewood Chemical Biological Center.

31. Dr. Charles E. Wade, Senior Research Scientist Combat Casualty Care, U.S. Army Institute of Surgical Research.

32. Dr. Billy J. Walker, Senior Research Scientist (Computational Fluid Dynamics), U.S. Army Research, Development and Engineering Command.

33. Dr. Bruce J. West, Senior Research Scientist (Mathematical Sciences), U.S. Army Research Laboratory, Army Research Office.

34. Dr. Thomas W. Wright, Senior Research Scientist (Terminal Ballistics), U.S. Army Research Laboratory.

The members of the Performance Review Board for the Office of The Surgeon General, are:

1. Mr. Brian Barr, Technical Director, U.S. Army Test and Evaluation Command.

2. Dr. Zita M. Simutis, Director and Chief Psychologist, Army Research Institute, U.S. Army Human Resources Command.

3. Mr. Ramon Suris-Fernandez, Deputy Assistant Secretary of the Army (Equal Employment Opportunity and Civil Rights), Office of the Assistant Secretary of the Army ( Manpower and Reserve Affairs).

4. MG Joseph G. Webb, Deputy Commanding General, Office of The Surgeon General.

Brenda S. Bowen,
Army Federal Register Liaison Officer.

[FR Doc. 05-23033 Filed 11-18-05; 8:45 am]

BILLING CODE 3710-08-M